NUCLEAR REGULATORY COMMISSION

[Docket Nos. 50-247 and 50-286; License Nos. DPR-26 and DPR-64]

Entergy Nuclear Operations, Inc.; Notice of Issuance of Director's Decision Under 10 CFR 2.206

Notice is hereby given that the Director, Office of Nuclear Reactor Regulation, has issued a Director's Decision with regard to a Petition dated September 8, 2003, filed by the Union of Concerned Scientists and Riverkeeper, Inc., hereinafter referred to as the “Petitioners.” The Petition was supplemented on September 22 and October 29, 2003. The Petition concerns the operation of the Indian Point Nuclear Generating Unit Nos. 2 and 3 (IP2 and 3).

The Petition requested that the Nuclear Regulatory Commission (NRC): (1) take immediate enforcement action against Entergy Nuclear Operations, Inc. (Entergy), the licensee for IP2 and 3, by issuing an Order requiring Entergy to immediately shut down IP2 and 3 and maintain the reactors shutdown until the containment sumps are modified to resolve Generic Safety Issue 191 (GSI-191), and (2) as an alternative, should the NRC deny the request to require IP2 and 3 to shut down immediately, issue an Order to prevent plant restart following each plant's next refueling outage until such time that the containment sumps are modified to resolve GSI-191. If this alternative is chosen, the Petitioners further requested a requirement to be included within the Order for Entergy to (a) maintain all equipment needed for monitoring leakage of reactor coolant pressure boundary components within containment fully functional and immediately shut down the affected reactor upon any functional impairment to leakage monitoring equipment, and (b) refrain from any activity under 10 CFR 50.59, 10 CFR 50.90, Section VII.C of the NRC's Enforcement Policy, or Generic Letter 91-18, Revision 1, that increases or could increase the probability of a loss-of-coolant accident (LOCA).

As the basis for this request, the Petitioners stated that there is a lack of reasonable assurance that the IP2 and 3 containment sumps will be able to perform their function during a LOCA. The Petitioners, conclusions regarding the containment sumps were based on their analysis of publicly available reports that were prepared for the NRC by the Los Alamos National Laboratory (LANL). The NRC has stated that the potential for sump clogging in pressurized-water reactors is an issue that is currently being evaluated by the NRC through the NRC's Generic Issue Program. In particular, the NRC-sponsored studies that formulate the basis for your requested enforcement actions were performed in support of the NRC staff's review of GSI-191.

On September 24, 2003, the Petitioners met with the staff's Petition Review Board (PRB) to discuss the Petition and provide additional details in support of this request.

The NRC sent a copy of the Proposed Director's Decision to the Petitioners and to the licensee for comment on February 19, 2004. The Petitioners responded with comments on March 30, 2004, and the licensee had no comments. The Petitioners' comments and the NRC staff's response to them are included with the Director's Decision.

The Director of the Office of Nuclear Reactor Regulation has determined that the request to order the licensee to suspend operations of IP2 and 3 be denied. The reasons for this decision, along with the reasons for decisions regarding the remaining Petitioners' requests, are explained in the Director's Decision pursuant to 10 CFR 2.206 (DD 04-02), the complete text of which is available in the Agencywide Documents Access and Management System (ADAMS) for inspection at the Commission's Public Document Room, located at One White Flint North, Public File Area O-1F21, 11555 Rockville Pike (first floor), Rockville, Maryland, and from the NRC Web site (http://www.nrc.gov/reading-rm.html) on the World Wide Web, under the “Public Involvement” icon.

As stated in its letter to the Petitioners on October 22, 2003, the NRC staff told the Petitioners that the request that the NRC issue an Order to immediately shut down IP2 and 3 was denied. Consistent with the generic issue process, the NRC is currently developing guidance to be used by individual plants to evaluate the potential for sump clogging. Although many plants have taken steps to further ensure adequate sump recirculation in the event of a LOCA, an NRC-approved methodology for evaluating each plant's sump performance is intended to (1) ensure that each plant evaluates the potential for debris-clogging in a consistent manner based on state-of-the-art, staff-approved methods and plant-specific information; and (2) provide the NRC with the technical basis for ensuring that any proposed solution adequately addresses the issue. The data reviewed by the staff to date, including the Petition and the Parametric Study, does not support the actions requested by the Petitioners. If, at any time during the resolution of the generic issue, the NRC should determine that unsafe conditions exist at Indian Point or any other plant, immediate actions will be taken to ensure the continued health and safety of the public.

A copy of the Director's Decision will be filed with the Secretary of the Commission for the Commission's review in accordance with 10 CFR 2.206 of the Commission's regulations. As provided for by this regulation, the Director's Decision will constitute the final action of the Commission 25 days after the date of the decision, unless the Commission, on its own motion, institutes a review of the Director's Decision in that time.

Dated in Rockville, Maryland, this 18th day of June, 2004.
For the Nuclear Regulatory Commission.
Brian W. Sheron,
Acting Director, Office of Nuclear Reactor Regulation.

[FR Doc. 04-14428 Filed 6-24-04; 8:45 am]

BILLING CODE 7590-01-P